DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 13, 2018.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on March 1, 2018.
Donald Burger,
Chief, General Approvals and Permits Branch.

Application No. | Applicant | Regulation(s) affected | Nature of the special permits thereof
Special Permits Data
20604-N | ELSTER AMERICAN METER COMPANY, LLC | 173.185(c)(3)(i) | To authorize the transportation in commerce of lithium batteries contained in equipment without certain markings on each package. (modes 1, 2).
20607-N | The Greenbrier Companies | 179.100-12(c) | To authorize the manufacture, mark, sale, and use of tank cars with the protective housing mounted in an alternate manner. (mode 2).
20608-N | DEPARTMENT OF DEFENSE (MILITARY SURFACE DEPLOYMENT & DISTRIBUTION COMMAND) | 173.302a(a)(1) | To authorize the transportation in commerce of compressed air in non-DOT specification cylinders. (modes 1, 2, 3, 4, 5).
20611-N | Deckload Aviation LLC | 172.101(j) | To authorize the transportation in commerce of hazardous materials in excess of the quantity limits specified in Column (9B) of the 172.101 when transported via rotorcraft external load operations. (mode 5).
20614-N | USDA APHIS Veterinary Services | 172.101(i)(3) | To authorize the transportation of depopulated livestock and/or poultry for treatment and disposal in bulk packagings. (mode 1).
20615-N | FSTI, INC. | 172.102(c)(7) | To authorize the transportation in commerce of hydrochloric acid in portable tanks fitted with bottom outlets. (mode 1).
20616-N | TEMSCO HELICOPTERS INC | 172.101(j), 172.200, 172.204(c)(3), 172.301(c), 173.27(b)(2), 175.30(a)(1), 175.75, 175.33 | To authorize the transportation in commerce of certain hazardous materials by cargo aircraft, including 14 CFR Part 133 Rotorcraft External Load Operations transporting hazardous materials attached to or suspended from an aircraft to remote locations of the US with out being subject to hazard communication requirements, quantity limitations and certain loading and stowage requirements. (mode 5).
20617-N | HILLWOOD AIRWAYS, LLC | 172.101(j), 173.27(b)(2), 175.30(a)(1) | To authorize the transportation of materials forbidden for transportation via air by cargo-only aircraft. (mode 5).

[FR Doc. 2018-05130 Filed 3-13-18; 8:45 am]

BILLING CODE 4909-60-P